Title 3—

The President

Proclamation 10684 of December 8, 2023

Human Rights Day and Human Rights Week, 2023

By the President of the United States of America

A Proclamation

Seventy-five years ago, the Universal Declaration of Human Rights captured a remarkable act of collective hope. Drafted by a committee representing different regions, faiths, and philosophies and adopted by the United Nations General Assembly, the rights enumerated in the declaration are universal and enduring. On Human Rights Day and during Human Rights Week, we reaffirm our commitment to upholding the equal and inalienable rights of all.

The United States was founded on an idea, at once the simplest and the most powerful idea in the history of the world: that we are all created equal and endowed with certain inalienable rights. Generations later, in the wake of World War II and the Holocaust, the United States joined countries around the world to create the United Nations and enshrine that same idea in the Universal Declaration of Human Rights.

Today, the United States—together with our partners and allies—continues to defend fundamental freedoms and human rights wherever they are under threat. We stand with people everywhere defending their rights against the forces of autocracy—demonstrating to the world that the flame of liberty still lights the souls of free people everywhere.

This year, we also affirmed our commitment to democratic renewal globally at the second Summit for Democracy, bringing together nearly 100 government leaders and hundreds of representatives from civil society and the private sector as well as journalists, technologists, and youth leaders from around the world. The Summit galvanized progress to protect human rights, bolster democratic reforms, fight corruption, support free and independent media, advance technology that works for democracy, combat the misuse of technology, and defend free and fair elections and political processes.

I have often said that one of America's greatest strengths is that we lead not by the example of our power but by the power of our example. We are strongest in the world when we live by our values at home, and we must never cease working to uphold the dignity and protect the rights of every person in this country and promote protection of those same rights globally. That is why my Administration has established the White House Gender Policy Council, which works to ensure women and girls enjoy equal rights and equal participation in society by advancing the women, peace and security agenda, preventing and responding to gender-based violence, and more. We have worked to strengthen civil rights for LGBTQI+ people at home and around the world and to protect same-sex marriage. We have led an intensive effort to counter the proliferation and misuse of commercial spyware that has enabled human rights abuses around the world. We are working to address systemic racism, advance racial equity, bolster support for underserved communities throughout the Federal Government, address inequities in our law enforcement and criminal justice systems, and expand accessibility for people with disabilities. As we look at today's global challenges online and offline, from conflict, democratic backsliding, and global pandemics to misinformation, the misuse of technology, the climate crisis, and food insecurity, the Universal Declaration of Human Rights is a bedrock upon which we must tackle these issues and promote the full enjoyment of all human rights.

Today, as we celebrate Human Rights Day, the start of Human Rights Week, and the 75th anniversary of the Universal Declaration of Human Rights, may we all recommit to securing the equal rights of every member of the human family and working together for the advancement of all humankind. Together, we can—and we will—bend the arc of history toward a freer and more just world for all.

NOW, THEREFORE, I, JOSEPH R. BIDEN JR., President of the United States of America, by virtue of the authority vested in me by the Constitution and the laws of the United States, do hereby proclaim December 10, 2023, as Human Rights Day and the week beginning December 10, 2023, as Human Rights Week. I call upon the people of the United States to mark these observances with appropriate ceremonies and activities.

IN WITNESS WHEREOF, I have hereunto set my hand this eighth day of December, in the year of our Lord two thousand twenty-three, and of the Independence of the United States of America the two hundred and forty-eighth.

[FR Doc. 2023-27485

Filed 12-12-23; 8:45 am]

Billing code 3395-F4-P